OFFICE OF PERSONNEL MANAGEMENT

Privacy Act of 1974; System of Records

AGENCY: Office of Personnel Management.

ACTION: Notice of a modified system of records.

SUMMARY: In accordance with the Privacy Act of 1974, the Office of Personnel Management (OPM) proposes to modify a system of records titled “OPM/Central-11, Presidential Management Fellows (PMF) Program Records.” This system of records contains information that OPM collects, maintains, and uses to administer and evaluate the Presidential Management Fellows (PMF) Program.

DATES: Please submit comments on or before June 9, 2023. This modified system is effective upon publication in the Federal Register, with the exception of any new routine uses, which become effective June 14, 2023.

ADDRESSES: You may submit written comments via the Federal Rulemaking Portal at https://www.regulations.gov. Follow the instructions for submitting comments. All submissions received must include the agency name and docket number for this Federal Register document. The general policy for comments and other submissions from members of the public is to make them available for public viewing at https://www.regulations.gov as they are received, without change, including any personal identifiers or contact information.

FOR FURTHER INFORMATION CONTACT: For general questions, please contact Susan Toman-Jones, Acting PMF Program Director, 202-606-1040. For privacy questions, please contact Kellie Cosgrove Riley, Senior Agency Official for Privacy, 202-936-2474.

SUPPLEMENTARY INFORMATION: In accordance with the Privacy Act of 1974, 5 U.S.C. 552a, the Office of Personnel Management proposes to modify and republish the system of records titled “OPM/Central-11, Presidential Management Fellows (PMF) Program Records.” The Presidential Management Fellows (PMF) Program was established by Executive Order in 1977 to attract to the Federal service outstanding individuals from a variety of academic disciplines and career paths, who have a clear interest in, and commitment to, excellence in the leadership and management of public policies and programs. The PMF Program recruits and develops advanced degree holders to provide a continuing source of trained individuals to meet the future leadership challenges of public service. This system of records includes records about PMF Applicants, Semi-Finalist, Finalists, Fellows, and Alumni.

This system of records is being modified, in part, to conform to the guidance in Office of Management and Budget Circular A-108 and to achieve consistency within OPM SORNs regarding necessary and proper routine uses as reflected in routine uses “a” through “g,” which replace and clarify current routine uses 1-4, 14, and routine uses previously added per 87 FR 5874. Other routine uses were edited for clarity with no change to the substance, and one routine use, current routine use “11” referred to the use of the records for statistical research and reporting and to identify subjects for research projects; given that it did not identify a routine use involving the external disclosure of records but rather an internal purpose and use of the records, the content was folded into the Purpose section.

In addition to the routine use modifications and administrative updates related to Circular A-108, the system is being modified as follows:

• The System Manager, currently identified as the Presidential Management Fellows Program Office, is being updated to more accurately identify the Associate Director, Human Resources Solutions, who has overall responsibility for the PMF Program.

• The Authorities have been expanded to include the relevant regulations.

• The Purpose section has been rewritten for clarity and to remove repetitive and overlapping information.

• The Categories of Individuals section has been edited to clarify that Applicants are individuals who have recently completed or soon will complete an advanced degree.

• “Applicant flow data” is being removed from the categories of records. The categories of applicant flow data for the PMF Program are the same as that collected in connection with all other applications for Federal employment. Those records, collected under the Equal Employment Opportunity Commission's OMB Control No. 3046-0046, are governed for Privacy Act purposes by the OPM/GOVT-7, Applicant Race, Sex, National Origin, and Disability Status Records SORN and the use and disclosure of those records are subject to regulations and guidance promulgated by the Equal Employment Opportunity Commission. Removing these records from this system of records is intended to clarify the appropriate collection, use, and dissemination of those records. Aggregate data, including aggregate applicant flow data, is used as part of the analysis to determine the effectiveness of the PMF Program's recruitment and selection processes, provide general statistics of program participants, and to conduct periodic job analyses. Other records are being added to the Categories of Records to call out certain data elements identified in the Retrievability section of the SORN. These records were included more generally in the current SORN but are being called out in the modification for consistency.

• Other non-substantive edits have been made to the remaining sections where necessary for clarity.

This modified system of records will be included in OPM's inventory of records systems. In accordance with 5 U.S.C. 552a(r), OPM has provided a report of this system of records to Congress and to the Office of Management and Budget.

Office of Personnel Management.
Stephen Hickman,
Federal Register Liaison.

SYSTEM NAME AND NUMBER:

Presidential Management Fellows (PMF) Program Records, OPM/Central-11.

SECURITY CLASSIFICATION:

Unclassified.

SYSTEM LOCATION:

The U.S. Office of Personnel Management, Human Resources Solutions, Presidential Management Fellows Program, Suite 2469, 1900 E Street NW, Washington, DC 20415 is responsible for the records in this system of records. Electronic records are stored at contractor facilities located in Baltimore, Maryland.

SYSTEM MANAGER(S):

Associate Director, Human Resource Solutions, U.S. Office of Personnel Management, 1900 E Street NW, Suite 2469, Washington, DC 20415.

AUTHORITY FOR MAINTENANCE OF THE SYSTEM:

Executive Order 13562, Recruiting and Hiring Students and Recent Graduates (December 27, 2020); and regulations governing the Pathways Programs at 5 CFR 362, subparts A (General Provisions) & D (Presidential Management Fellows Program).

PURPOSE(S) OF THE SYSTEM:

The purpose of this system of records is to determine individuals' basic eligibility for the PMF Program and to evaluate applicants to the PMF Program in a structured assessment process conducted by OPM. In addition, this system of records enables OPM to group individuals into various categories (e.g., Candidates, Applicants, Eligibles, Ineligibles, Semi-Finalists, Finalists, Non-Selectees, Fellows, Former Fellows, and Alumni), make a final determination as to those Applicants who will be referred (as Semi-Finalists to Finalists and those Finalists who become Fellows) to participating Federal agencies for employment consideration, and track and document appointments, certifications, conversions, reappointments, withdrawals, resignations, extensions, and deaths of PMF participants.

The records in this system of records are also collected to evaluate the PMF Program to determine the effectiveness of the program and to improve program operations, to schedule and track PMF participation in Program-sponsored training and development events (e.g., leadership development, forums, graduation), to track agency reimbursements for PMF appointments, to facilitate interaction and communication between PMF Program participants and PMF alumni as well as with their academic institutions, and to maintain contact information about individuals at all stages of the PMF Program, including PMF alumni, Agency PMF Coordinators, PMF supervisors, Pathways Programs Officers, and other relevant stakeholders, for outreach and engagement. Finally, the records in this system of records serves as a data source for management information of summary descriptive statistics and analytical studies in support of the PMF Program, for related personnel research functions or manpower studies, and to locate individuals for personnel research.

CATEGORIES OF INDIVIDUALS COVERED BY THE SYSTEM:

Current and former Presidential Management Fellows; registrants to the PMF Talent Management System portal; candidates who begin the PMF application process; applicants to the PMF Program who are students pursuing or who have recently completed an advanced degree, such as a masters or professional degree; and other PMF Program stakeholders (such as Agency PMF Coordinators and Federal supervisors of PMFs).

CATEGORIES OF RECORDS IN THE SYSTEM:

The records contained in this system of records will vary depending on the category of individual, but may include one or more of the following:

• Name

• Last four digits of Social Security number

• Citizenship

• Address (personal residence and/or business)

• Telephone number (home and/or business)

• Email address (home and/or business)

• Academic background (including academic institution attended or attending, degree discipline, and degree type)

• Employment history

• Foreign language (speak, write, and/or read)

• Veterans' preference status

• Academic transcripts

• Any other information obtained during the PMF application, assessment, and selection processes

• Information about PMF training and development activities

• Confidential evaluation information and assessment scores (these records are not available to the public, individuals whose records are contained in this system of records, academic institutions, nor to participating Federal agencies or officials; see Exemptions and Routine Uses, below).

Applicant flow data collected by the PMF Program is not covered by this SORN but rather is collected and governed under the OPM/GOVT-7 Applicant Race, National Origin, Sex, and Disability Records, SORN.

RECORD SOURCE CATEGORIES:

The records in this system of records are obtained from individuals identified in the Categories of Individuals Covered by the System, above; academic institutions; Federal officials involved in the screening and selection process; and Federal agencies who employ Presidential Management Fellows.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside OPM as a routine use pursuant to 5 U.S.C. 552a(b)(3), as follows:

a. To the Department of Justice, including Offices of the U.S. Attorneys; another Federal agency conducting litigation or in proceedings before any court, adjudicative, or administrative body; another party in litigation before a court, adjudicative, or administrative body; or to a court, adjudicative, or administrative body. Such disclosure is permitted only when it is relevant and necessary to the litigation or proceeding, and one of the following is a party to the litigation or has an interest in such litigation:

(1) OPM, or any component thereof;

(2) Any employee or former employee of OPM in their official capacity;

(3) Any employee or former employee of OPM in their individual capacity where the Department of Justice or OPM has agreed to represent the employee;

(4) The United States, a Federal agency, or another party in litigation before a court, adjudicative, or administrative body, upon the OPM General Counsel's approval, pursuant to 5 CFR part 295 or otherwise.

b. To the appropriate Federal, State, or local agency responsible for investigating, prosecuting, enforcing, or implementing a statute, rule, regulation, or order, when a record, either on its face or in conjunction with other information, indicates a violation or potential violation of civil or criminal law or regulation.

c. To a member of Congress from the record of an individual in response to an inquiry made at the request of the individual to whom the record pertains.

d. To the National Archives and Records Administration (NARA) for records management inspections being conducted under the authority of 44 U.S.C. 2904 and 2906.

e. To appropriate agencies, entities, and persons when (1) OPM suspects or has confirmed that there has been a breach of the system of records; (2) OPM has determined that as a result of the suspected or confirmed breach, there is a risk of harm to individuals, OPM (including its information systems, programs, and operations), the Federal Government, or national security; and (3) the disclosure made to such agencies, entities, and persons is reasonably necessary to assist in connection with OPM's efforts to respond to the suspected or confirmed breach or to prevent, minimize, or remedy such harm.

f. To another Federal agency or Federal entity, when OPM determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

g. To contractors, grantees, experts, consultants, or volunteers performing or working on a contract, service, grant, cooperative agreement, or other assignment for OPM when OPM determines that it is necessary to accomplish an agency function related to this system of records. Individuals provided information under this routine use are subject to the same Privacy Act requirements and limitations on disclosure as are applicable to OPM employees.

h. To the Merit Systems Protection Board or the Office of the Special Counsel, when requested in connection with appeals, special studies of the civil service and other merit systems, review of OPM rules and regulations related to the PMF Program, investigations of alleged or possible prohibited personnel practices, and such other functions, e.g., as prescribed in 5 U.S.C. 1205 and 1206, or as may be authorized by law.

i. To the Equal Employment Opportunity Commission, when requested, in connection with investigations into alleged or possible discrimination practices in the Federal sector, examination of Federal affirmative employment programs, compliance by Federal Agencies with the Uniform Guidelines on Employee Selection Procedures, or other functions vested in the Commission.

j. To the Federal Labor Relations Authority, when requested, in connection with investigations of allegations of unfair labor practices or matters before the Federal Service Impasses Panel.

k. To Federal agencies to refer Finalists in the PMF Program for employment consideration.

l. To State and local government entities, congressional offices, international organizations, and other public offices, with permission of the individual, to refer individuals for potential employment and developmental opportunities.

m. To Federal agencies that employ Presidential Management Fellows to refer Fellows for consideration for reassignment, reappointment, conversion, and/or promotion within the employing agencies.

n. To a Federal, State, or local agency maintaining civil, criminal or other information when relevant to the agency's decision concerning the hiring or retention of a candidate.

o. To an academic institution to provide information to the institution concerning its graduates' participation in the PMF Program, covering application, selection, appointment to a Federal position, and completion of the PMF Program.

POLICIES AND PRACTICES FOR STORAGE OF RECORDS:

The records in this system of records are stored electronically within the contractor's hosting and backup facilities and is encrypted at rest. A complete data backup is stored on a weekly basis and is then replicated to a physically separate datacenter location and kept for the duration of the retention period. The records are accessible only to those OPM and contractor employees who have an official business need to access and use the records.

POLICIES AND PRACTICES FOR RETRIEVAL OF RECORDS:

The records in this system of records may be retrieved by applicant identification number, name, academic institution, state of residence, last four digits of Social Security number, degree discipline and/or type, veterans' preference, email address, phone number, status in PMF Program (e.g., Candidate, Applicant, Eligible, Ineligible, Semi-Finalist, Finalist, Non-Selectee, Fellow, Former Fellow, and Alumni), citizenship, foreign language, geographic employment preference(s), skill sets/competencies, or any combination of these.

POLICIES AND PRACTICES FOR RETENTION AND DISPOSAL OF RECORDS:

The records retention schedule for the records in this system is currently under review and revision and is pending submission to the NARA. Once in place, records about Applicants will be retained for ten years from the end of the application cycle, records about Semi-Finalists and Finalists will be retained for ten years from the year their eligibility expires, certain records about Fellows will be retained for ten years after they complete their fellowship while other records will be retained for twenty years, and non-applicant user account records (e.g., agency points of contact and administrative account users) will be retained for ten years after their last access.

At the end of their lifecycle, records will be destroyed in accordance with applicable media sanitation standards.

ADMINISTRATIVE, TECHNICAL, AND PHYSICAL SAFEGUARDS:

Records in this system are protected from unauthorized access and misuse through various administrative, technical, and physical security measures. The technical security measures used by OPM and OPM's contractors comply with the Federal Information Security Modernization Act (Pub L. 113-203), associated OMB policies, and applicable standards and guidance from the National Institute of Standards and Technology (NIST).

Safeguards are in place within both the primary and alternate hosting facilities. Each facility leverages security equipment, techniques, and procedures to control, monitor, and record access to the facility, including customer cage areas. Data centers are always staffed and all perimeter doors are secured, monitored, and alarmed. Records are accessible only to those whose official duties necessitate such access. All contractor personnel with a need to access records in this system undergo a background investigation prior to being granted access and contractor personnel are required by the terms of the contract to adhere to relevant provisions of the Privacy Act.

RECORD ACCESS PROCEDURES:

Certain records in this system have been exempted from the access provisions of the Privacy Act, see Exemptions Promulgated for the System, below. Individuals seeking notification of and access to their non-exempt records in this system of records may do so by submitting a request in writing to the Office of Personnel Management, Office of Privacy and Information Management—FOIA, 1900 E Street NW, Room 5415, Washington, DC 20415-7900 or by emailing foia@opm.gov; ATTN: PMF Program. Individuals must furnish the following information for their records to be located:

1. Full name at time of application to the PMF Program, including any former name.

2. Last 4 digits of their Social Security number, when specifically requested.

3. Year applied to the PMF Program.

4. Home Address at the time of application to the PMF Program.

Individuals requesting access must also comply with OPM's Privacy Act regulations regarding verification of identity and access to records (5 CFR 297).

CONTESTING RECORD PROCEDURES:

Certain records in this system have been exempted from the access provisions of the Privacy Act, see Exemptions Promulgated for the System, below. Individuals wishing to request amendment of their non-exempt records in this system of records may do so by writing to the to the Office of Personnel Management, Office of Privacy and Information Management—FOIA, 1900 E Street NW, Room 5415, Washington, DC 20415-7900 or by emailing foia@opm.gov; ATTN: PMF Program. Requests for amendment of records should include the words “PRIVACY ACT AMENDMENT REQUEST” in capital letters at the top of the request letter; if emailed, please include those words in the subject line. Individuals must furnish the following information for their records to be located:

1. Full name at time of application to the PMF Program, including any former name.

2. Last 4 digits of their Social Security number, when specifically requested.

3. Year applied to the PMF Program.

4. Home Address at the time of application to the PMF Program.

5. Precise identification of the information to be amended.

Individuals requesting amendment of their records must also comply with OPM's Privacy Act regulations regarding verification of identity and access to records (5 CFR 297).

NOTIFICATION PROCEDURES:

See “Record Access Procedures.”

EXEMPTIONS PROMULGATED FOR THE SYSTEM:

Certain records in this system relate to testing or examining materials used solely to determine individual qualifications for appointment or promotion in the Federal service. Access to or amendment of this information would compromise the objectivity and fairness of the testing or examining process. Accordingly, the records in this system that meet the criteria stated in 5 U.S.C. 552a(k)(6) are exempt from the requirements of 5 U.S.C. 552a(d), relating to access to and amendment of records. 5 CFR 297.501(b)(6). See also 5 CFR 300.201.

HISTORY:

77 FR 61791 (Oct 11, 2012); 74 FR 42334; 60 FR 63075 (Dec 12, 1995); 80 FR 74816 (Nov 30, 2015) and 87 FR 5874 (Feb 2, 2022)

[FR Doc. 2023-09943 Filed 5-9-23; 8:45 am]

BILLING CODE 6325-43-P